COMMODITY FUTURES TRADING COMMISSION

Sunshine Act; Meetings

Time and Date: 10:30 a.m., Tuesday September 30, 2003.

Place: 1155 21st St., NW., Washington DC, Room 1012.

Status: Closed.

Matters to be Considered: Rule Enforcement Review.

Contact Person for More Information: Jean A. Webb, (202) 418-5100.

Jean A. Webb,
Secretary of the Commission.

[FR Doc. 03-21916 Filed 8-22-03; 1:07 pm]

BILLING CODE 6351-01-M